DEPARTMENT OF VETERANS AFFAIRS

[OMB Control No. 2900-0165]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine a claimant's financial status.

DATES: Written comments and recommendations on the proposed collection of information should be received on or before April 3, 2006.

ADDRESSES: Submit written comments on the collection of information to David Sturm, VA Debt Management Center, Bishop Henry Whipple Federal Building, P.O. Box 11930, St. Paul, MN 55111-0930 or e-mail to: DMCDSTUR@VBA.VA.GOV. Please refer to “OMB Control No. 2900-0165” in any correspondence.

FOR FURTHER INFORMATION CONTACT: David Sturm at (612) 970-5702 or fax (612) 970-5687.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Title: Financial Status Report, VA Form 5655.

OMB Control Number: 2900-0165.

Type of Review: Extension of a currently approved collection.

Abstract: Claimants complete VA Form 5655 to report their financial status. VA use the data collected to determine the claimant's eligibility for a waiver of collection, setup a payment plan or for the acceptance of a compromise offer on their VA benefit debt.

Affected Public: Individuals or households.

Estimated Annual Burden: 45,553 hours.

Estimated Average Burden Per Respondent: 1 hour.

Frequency of Response: Annually.

Estimated Number of Respondents: 45,553.

Dated: January 24, 2006.
By direction of the Secretary.
Denise McLamb,
Program Analyst, Records Management Service.

[FR Doc. E6-1355 Filed 2-1-06; 8:45 am]

BILLING CODE 8320-01-P